DEPARTMENT OF THE INTERIOR

Fish and Wildlife Service

[FWS-R8-FHC-2014-N207; FXFR1334088TWG0W4-123-FF08EACT00]

Trinity Adaptive Management Working Group; Public Meeting and Teleconference

AGENCY: Fish and Wildlife Service, Interior.

ACTION: Notice.

SUMMARY: We, the U.S. Fish and Wildlife Service, announce a public meeting of the Trinity Adaptive Management Working Group (TAMWG). The TAMWG is a Federal advisory committee that affords stakeholders the opportunity to give policy, management, and technical input concerning Trinity River (California) restoration efforts to the Trinity Management Council (TMC). The TMC interprets and recommends policy, coordinates and reviews management actions, and provides organizational budget oversight.

DATES: Public meeting: TAMWG will meet from 9 a.m. to 5 p.m. Pacific Time on Thursday, October 30, 2014, and from 9 a.m. to 1 p.m. Pacific Time on Friday, October 31, 2014. Deadlines: For deadlines on submitting written material, please see “Public Input” under SUPPLEMENTARY INFORMATION.

ADDRESSES: The in-person meeting will be held at the Trinity County Library, 351 Main Street, Weaverville, CA 96093.

FOR FURTHER INFORMATION CONTACT: To participate in the teleconference contact Elizabeth W. Hadley, Redding Electric Utility, 777 Cypress Avenue, Redding, CA 96001; telephone: 530-339-7327; email: ehadley@reupower.com or Joseph C. Polos, U.S. Fish and Wildlife Service, 1655 Heindon Road, Arcata, CA 95521; telephone: 707-822-7201; joe_polos@fws.gov. Individuals with a disability may request an accommodation by sending an email to the point of contact, and those accommodations will be provided.

SUPPLEMENTARY INFORMATION: In accordance with the requirements of the Federal Advisory Committee Act, 5 U.S.C. App., we announce that the Trinity Adaptive Management Working Group (TAMWG) will hold a meeting.

Background

The TAMWG affords stakeholders the opportunity to give policy, management, and technical input concerning Trinity River (California) restoration efforts to the Trinity Management Council (TMC). The TMC interprets and recommends policy, coordinates and reviews management actions, and provides organizational budget oversight. A workshop will be held to build a common understanding among TRRP policy makers (TMC), stake holders (TAMWG), and staff about what has been learned over the past 10 years of the Program's Implementation and how that information will influence future management and restoration actions. The general agenda items for this workshop are listed below.

Meeting Agenda

• Review of the ROD,

• SAB review and recommendations,

• Evolution of channel rehabilitation strategy, and

• Public Comment.

The final draft agenda will be posted on the Internet at http://www.fws.gov/arcata when available.

Public Input

If you wish to | You must contact Elizabeth Hadley (FOR FURTHER INFORMATION CONTACT) no later than
Submit written information or questions for the TAMWG to consider during the teleconference | October 23, 2014.

Submitting Written Information or Questions

Interested members of the public may submit relevant information or questions for the TAMWG to consider during the meeting. Written statements must be received by the date listed in “Public Input,” so that the information may be available to the TAMWG for their consideration prior to this meeting. Written statements must be supplied to Elizabeth Hadley in one of the following formats: One hard copy with original signature, one electronic copy with original signature, and one electronic copy via email (acceptable file formats are Adobe Acrobat PDF, MS Word, PowerPoint, or rich text file).

Registered speakers who wish to expand on their oral statements, or those who wished to speak but could not be accommodated on the agenda, may submit written statements to Elizabeth Hadley up to 7 days after the meeting.

Meeting Minutes

Summary minutes of the meeting will be maintained by Elizabeth Hadley (see FOR FURTHER INFORMATION CONTACT). The draft minutes will be available for public inspection within 14 days after the meeting, and will be posted on the TAMWG Web site at http://www.fws.gov/arcata.

Dated: September 25, 2014.
Joseph C. Polos,
Supervisory Fish Biologist, Arcata Fish and Wildlife Office, Arcata, California.

[FR Doc. 2014-23385 Filed 9-30-14; 8:45 am]

BILLING CODE 4310-55-P